DEPARTMENT OF HOMELAND SECURITY

Federal Emergency Management Agency

44 CFR Part 67

[Docket No. FEMA-B-7454]

Proposed Flood Elevation Determinations

AGENCY: Federal Emergency Management Agency (FEMA), Department of Homeland Security.

ACTION: Proposed rule.

SUMMARY: Technical information or comments are requested on the proposed Base (1% annual-chance) Flood Elevations (BFEs) and proposed BFE modifications for the communities listed below. The BFEs and modified BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: Doug Bellomo, P.E., Hazard Identification Section, Mitigation Division, Federal Emergency Management Agency, 500 C Street SW., Washington, DC 20472, (202) 646-2903.

SUPPLEMENTARY INFORMATION: FEMA proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

National Environmental Policy Act. This proposed rule is categorically excluded from the requirements of 44 CFR part 10, Environmental Consideration. No environmental impact assessment has been prepared.

Regulatory Flexibility Act. The Mitigation Division Director of the Federal Emergency Management Agency certifies that this proposed rule is exempt from the requirements of the Regulatory Flexibility Act because proposed or modified BFEs are required by the Flood Disaster Protection Act of 1973, 42 U.S.C. 4104, and are required to establish and maintain community eligibility in the NFIP. No regulatory flexibility analysis has been prepared.

Regulatory Classification. This proposed rule is not a significant regulatory action under the criteria of section 3(f) of Executive Order 12866 of September 30, 1993, Regulatory Planning and Review, 58 FR 51735.

Executive Order 12612, Federalism. This proposed rule involves no policies that have federalism implications under Executive Order 12612, Federalism, dated October 26, 1987.

Executive Order 12778, Civil Justice Reform. This proposed rule meets the applicable standards of section 2(b)(2) of Executive Order 12778.

List of Subjects in 44 CFR Part 67

Administrative practice and procedure, Flood insurance, Reporting and recordkeeping requirements.

Accordingly, 44 CFR Part 67 is proposed to be amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376, § 67.4

2. The tables published under the authority of § 67.4 are proposed to be amended as follows:

State | City/town/county | Source of flooding | Location | *Elevation in feet (NGVD) +Elevation in feet (NAVD): Existing | *Elevation in feet (NGVD) +Elevation in feet (NAVD): Modified
Arizona | Pinal County (Unincorporated Areas): | McClellan Wash | Approximately 0.61 mile west of Battagila Drive | None | +1,566
|  |  | Approximately 6.8 miles upstream of confluence with McClellan Wash Split | None | +1,824
| Eloy, City of | Santa Cruz Wash | Approximately 0.72 mile west of Ethington Road | None | +1,382
|  |  | Approximately 1,000 feet south of Shedd Road | None | +1,440
| Eloy, City of | Santa Rosa Canal | Approximately 400 feet west of Henness Road | None | +1,481
|  |  | Approximately 222 feet east of Toltec Highway | None | +1,528
| Casa Grande, City of | North Branch Santa Cruz Wash | Approximately 0.86 mile west of Wash Thornton Road | None | +1,363
|  |  | Approximately 1.85 miles east of Peart Road | None | +1,409
| Casa Grande, City of | Arizola Drain | Approximately 0.64 mile west of Cox Road | None | +1,407
|  |  | Approximately 5.02 miles above confluence with North Branch Santa Cruz Wash | None | +1,453
+North American Vertical Datum 1988
ADDRESSES:
Pinal County (Unincorporated Areas):
Maps are available for inspection at: 140 N. Florence Street, Florence, AZ 85232.
Send comments to: The Honorable Sandie Smith, Pinal County, Chairperson of the Board of Supervisors, P.O. Box 827, Florence, AZ 85232.
City of Casa Grande:
Maps are available for inspection at: The City Hall, 510 E. Florence Blvd., Casa Grande, AZ 85222.
Send comments to: The Honorable Chuck Walton, 510 E. Florence Blvd., Casa Grande, AZ 85222.
City of Eloy:
Maps are available for inspection at: City Hall, 628 N. Main St., Eloy, AZ 85231 or the City Library, 100 E. 7th St., Eloy, AZ 85231.
Send comments to: The Honorable Byron Jackson, 628 North Main St. Eloy, AZ 85231.
Colorado | Town of Silt, Garfield County | Colorado River | Approximately 1100 feet upstream I-70 | None | *5,404
|  |  | Just downstream of County Road 311 | None | *5,428
*National Geodetic Vertical Datum 1929
ADDRESSES:
Town of Silt:
Maps are available for inspection at the Town Hall, 231 North 7th Street, Silt, CO 81652.
Send comments to The Honorable John Evan, Mayor, Town of Silt, and P.O. Box 70, Silt, CO 81652.
Kentucky | Bell County (Uninc. Areas) City of Pineville | Cumberland River | Approximately 6,185 feet downstream of the confluence of Greasy Creek | *1,011 | +1,009
|  |  | Approximately 770 feet upstream of the confluence of Burst Branch | *1,102 | +1,099
| Bell County (Uninc. Areas) | Hances Creek | At the confluence with Cumberland River | *1,043 | +1,021
|  |  | Approximately 5,630 feet upstream of the confluence with Cumberland River | *1,043 | +1,021
| Bell County (Uninc. Areas) | Left Fork Straight Creek | At the confluence with Straight Creek | *1,021 | +1,020
|  |  | Approximately 1,915 feet upstream of the confluence of Sims Fork | *1,076 | +1,075
| City of Middlesboro | Little Yellow Creek | At the confluence with Yellow Creek | *1,132 | +1,131
|  |  | Approximately 275 feet upstream of the confluence of Davis Branch | None | +1,141
| Bell County (Uninc. Areas) City of Pineville | Straight Creek | At the confluence with Cumberland River | *1,022 | +1,020
|  |  | Approximately 3,725 feet upstream of the confluence of Cox Branch | None | +1,161
| Bell County (Uninc. Areas) City of Middlesboro | Yellow Creek | At confluence with Cumberland River | *1,038 | +1,034
|  |  | Approximately 375 feet southwest of the intersection of Cumberland Avenue and 34th Street | *1,137 | +1,141
*National Geodetic Vertical Datum 1929
+North American Vertical Datum 1988
ADDRESSES:
Bell County (Unincorporated Areas):Maps are available for inspection at Community Map Repository, 1 Courthouse Square, Pineville, Kentucky 40977.
Send comments to Honorable William Kelley, County Judge-Executive, P.O. Box 339 Pineville, Kentucky 40977.
City of Middlesboro:
Maps are available for inspection at Community Map Repository, 21 & Loft Avenue, Middlesboro, Kentucky 40965.
Send comments to Honorable Hickman, Mayor, City of Middlesboro, Post Office Box 756, Middlesboro, Kentucky 40965.
City of Pineville:
Maps are available for inspection at Community Map Repository, 300 Virginia Avenue, Pineville, Kentucky 40977.
Send comments to Honorable Bruce Hendrickson, Mayor, City of Pineville, P.O. Box 688, Pineville, Kentucky 40977.
Kentucky | Knox County (Uninc. Areas) | Cumberland River | Approximately 6,410 feet southwest of the intersection of Goodin Creek Road and Kentucky State Highway 11 | None | +966
|  |  | Approximately 4,495 feet upstream of the confluence of Elys Branch | None | +1,014
+North American Vertical Datum 1988
ADDRESSES:
Knox County (Unincorporated Areas):
Maps are available for inspection at Community Map Repository, County Courthouse, 104 Court Square, Barbourville, KY 40906.
Send comments to Honorable Raymond Smith, County Judge-Executive, P.O. Box 173, Barbourville, Kentucky 40906.
City of Barbourville:
Maps are available for inspection at Community Map Repository, County Courthouse, 104 Court Square, Barbourville, KY 40906.
Send comments to Honorable W. Patrick Hauser, Mayor, City of Barbourville, 196 Daniel Boone Drive, Barbourville, KY 40906.
Kentucky | Louisville Metro | Anita Branch | At confluence with Pennsylvania Run | None | +535
|  |  | Approximately 240 feet upstream of Cedar Creek Road | None | +614
| Louisville Metro | Blue Springs Ditch | At confluence with Northern Ditch | *462 | +460
|  |  | Approximately 650 feet downstream of Fern Valley Road | *464 | +462
|  |  | Just upstream of Fern Valley Road | *464 | +463
|  |  | Approximately 80 feet downstream of Hanses Drive | *466 | +465
|  |  | Approximately 330 feet downstream of Jefferson Boulevard | *471 | +467
|  |  | Approximately 1,570 feet upstream of Jefferson Boulevard | *473 | +470
| Louisville Metro | Brownsboro Ditch | At confluence with Little Goose Creek | None | +583
|  |  | Approximately 70 feet upstream of Ten Broeck Way | None | +583
| Louisville Metro | Brush Run Upper | At confluence with Floydes Fork | None | +597
|  |  | Approximately 530 feet upstream of Polo Fields Lane | None | +655
| City of Shively | City Park Ditch | At confluence with Upper Mill Creek | *452 | +448
|  |  | Approximately 300 feet upstream of Olenda Way | *452 | +448
| Louisville Metro | Drews Fork | At confluence with Lovvorn Creek | None | +600
|  |  | Approximately 280 feet upstream of Cooper Chapel Road | None | +629
| Louisville Metro | Durbin Branch | At confluence with Lovvorn Creek | None | +595
|  |  | Approximately 120 feet upstream of Cooper Chapel Road | None | +633
| Louisville Metro | Fishpool Creek | At confluence with Southern Ditch | *464 | +462
|  |  | Approximately 1,570 feet upstream of Blue Lick Road | *469 | +467
|  |  | Approximately 950 feet downstream of South Park Road | *476 | +472
|  |  | Approximately 1,320 feet upstream of Charleswood Road | *573 | +571
|  |  | Approximately 20 feet upstream of Cooper Chapel Road | None | +582
|  |  | Approximately 2,000 feet upstream of Cooper Chapel Road | None | +594
| Louisville Metro | Floyds Fork | Approximately 29,700 feet Metro downstream of Bardstown Road | *477 | +475
|  |  | Approximately 1,600 feet upstream of Broad Run Road | *497 | +496
|  |  | Approximately 7,910 feet downstream of confluence with Cane Run | *520 | +521
|  |  | Approximately 3,400 feet upstream of confluence with Cane Run | *537 | +534
|  |  | Approximately 4,970 feet downstream of Taylorsville Lake Road | *549 | +548
|  |  | Approximately 1,930 feet downstream of Taylorsville Lake Road | *550 | +552
|  |  | Approximately 1,740 feet downstream of Taylorsville Road | *559 | +559
|  |  | Approximately 3,570 feet upstream of Taylorsville Road | *567 | +568
|  |  | Approximately 3,100 feet downstream of I-64 East | *583 | +581
|  |  | Approximately 330 feet downstream of Shelbyville Road | *596 | +596
|  |  | Approximately 7,700 feet upstream of CSX Railroad | *614 | +612
|  |  | Approximately 12,300 feet upstream of Aiken Road | *629 | +628
| Louisville Metro | Gene Snyder Tributary | At confluence with Pennsylvania Run | None | +595
|  |  | Approximately 500 feet upstream of I-265 North | None | +608
| Louisville Metro | Goose Creek | Just upstream of Lakeland Road | None | +661
|  |  | Approximately 220 feet downstream of Cave Spring Place | None | +707
| Louisville Metro | Harrods Creek | At confluence with Ohio River | None | +452
|  |  | Approximately 22,400 feet upstream of Brownsboro Road | None | +452
| City of Shively | Heatherfield Ditch | At confluence with Upper Mill Creek | *448 | +447
|  |  | Just downstream of Heatherfield Drive | *448 | +447
| Louisville Metro | Hite Creek | Approximately 2,850 feet downstream of Worthington Lane | None | +599
|  |  | Approximately 820 feet upstream of Collins Lane | None | +734
| Louisville Metro | LeFores Branch | At confluence with Goose Creek | None | +668
|  |  | Approximately 1,140 feet upstream of confluence with Goose Creek | None | +677
| Louisville Metro | Lilac Run | At confluence with Little Goose Creek | None | +628
|  |  | Approximately 1,780 feet upstream of Wynbrooke Cirle | None | +667
| Louisville Metro | Little Goose Creek | Approximately 580 feet downstream of I-71 South | None | +548
|  |  | Approximately 300 feet upstream of Westport Road | None | +651
| Louisville Metro | Long Run Creek | At confluence with Floyds Fork | None | +569
|  |  | Approximately 830 feet upstream of Long Run Road | None | +653
| Louisville Metro | Lovvorn Creek | At confluence with Pennsylvania Run | None | +578
|  |  | Approximately 170 feet upstream of Beulah Church Road | None | +652
| Louisville Metro | Northern Ditch | At confluence with Pond Creek | *457 | +455
|  |  | Approximately 1,910 feet downstream of Preston Highway | *461 | +459
|  |  | Approximately 1,840 feet upstream of Preston Highway | *464 | +463
|  |  | Approximately of 410 feet upstream of Shepherdsville Road | *479 | +480
| Louisville Metro | Pennsylvania Run | Approximately 900 feet downstream of Mt. Washington Road | None | +528
|  |  | Approximately 920 feet upstream of Outer Loop | None | +648
| Louisville Metro | Pohlmann Branch | At confluence with Pennsylvania Run | None | +602
|  |  | Approximately 160 feet upstream of Beulah Church Road | None | +657
| Louisville Metro | Pond Creek | Approximately 6,500 feet downstream of Stites Station Road | *431 | +430
|  |  | Approximately 870 feet upstream of Blenvins Gap Road | *432 | +433
|  |  | Approximately 1,000 feet downstream of Stonestreet Road | *448 | +445
|  |  | Approximately 1,800 feet upstream of New Cut Road | *457 | +455
| Louisville Metro | Rolling Hills Branch | At confluence with Little Goose Creek | None | +590
|  |  | Approximately 180 feet upstream of Goose Creek Road | None | +608
| Louisville Metro, City of West Buechel, City of Jeffersontown | South Fork Beargrass Creek | At pump Station | *434 | +433
|  |  | Approximately 50 feet upstream of Baxter Avenue | *450 | +449
|  |  | Approximately 170 feet upstream of Ellison Avenue | *455 | +456
|  |  | Approximately 6,100 feet upstream of Eastern Parkway | *461 | +460
|  |  | Approximately 360 feet upstream of Goldsmith Lane (1st crossing) | *472 | +470
|  |  | Approximately 760 feet downstream of Bashford Manor Lane | *474 | +472
|  |  | Approximately 240 feet upstream of Bashford Manor Lane | *474 | +472
|  |  | Approximately 100 feet downstream of Bardstown Road | *476 | +475
|  |  | Approximately 80 feet upstream of Bardstown Road | *479 | +478
|  |  | Approximately 40 feet downstream of Hikes Lane | *492 | +491
|  |  | Approximately 260 feet upstream of Breckenridge Lane | *510 | +511
|  |  | Approximately 3,270 feet upstream of Hunsinger Lane | *534 | +533
|  |  | Approximately at Brybed Reservoir | None | +564
|  |  | Approximately 1,500 feet downstream of Stony Brook Drive | None | +564
|  |  | Just downstream Taylorville Road | None | +634
| Louisville Metro | Southern Ditch | At confluence with Pond Creek | *457 | +455
|  |  | Approximately 960 feet downstream of Minors Lane | *460 | +459
|  |  | Approximately 1,620 feet downstream of Outer Loop (1st crossing) | *475 | +472
|  |  | Approximately 490 feet downstream of Gayeway Drive | *505 | +506
|  |  | Approximately 310 feet upstream of Gayeway Drive | *518 | +517
|  |  | Approximately 30 feet upstream of Shepherdsville Road | *530 | +531
|  |  | Approximately 60 feet downstream of Michael Ray Drive | *564 | +561
|  |  | Approximately 790 feet upstream of Michael Ray Drive | *577 | +576
|  |  | Approximately 1,350 feet upstream of Michael Ray Drive | *584 | +586
| Louisville Metro | Springhurst Creek | At confluence with Little Goose Creek | None | +588
|  |  | Approximately 350 feet upstream of Ten Broeck Way | None | +591
| Louisville Metro, City of Matthews | Weicher Creek | At confluence with Middle Fork Beargrass Creek | *509 | +508
|  |  | Approximately 100 feet downstream of I-264 West Ramp | *516 | +517
|  |  | Approximately 20 feet upstream of Blossomwood Drive | *521 | +522
|  |  | Approximately 600 feet upstream of Woodmont Drive | *539 | +537
|  |  | Approximately 190 feet upstream of Dannywood Road | *549 | +545
|  |  | Approximately 290 feet upstream of Lincoln Road | *553 | +550
|  |  | Approximately 820 feet upstream of Lincoln Road | None | +555
|  |  | Approximately 3,870 feet upstream of Limehouse Lane | None | +647
| Louisville Metro | Wet Woods Creek | At confluence with Southern Ditch | *459 | +457
|  |  | Just downstream of Preston Highway | *462 | +461
| Louisville Metro | Wilson Creek | At confluence with Southern Ditch | *457 | +456
|  |  | Approximately 990 feet upstream of I-265 North | *462 | +460
|  |  | Approximately 3,290 feet upstream of National Turnpike | *468 | +467
|  |  | Approximately 2,260 feet upstream of Farmers Lane | *476 | +477
|  |  | Approximately 3,550 feet upstream of Farmers Lane | None | +480
|  |  | Approximately 4,700 feet downstream of National Turnpike | None | +524
*National Geodetic Vertical Datum 1929
+North American Vertical Datum 1988
ADDRESSES:
Louisville Metro:
Maps are available for inspection at Louisville/Jefferson County Metropolitan Sewer District, 700 West Liberty Street, Louisville, Kentucky 40203-1911.
Send comments to Mr. Randy Stambaugh, P.E., CFM, Floodplain Administrator, Louisville/Jefferson County Metropolitan Sewer District, 700 West Liberty Street, Louisville, Kentucky 40203-1911.
City of Jeffersontown:
Maps are available for inspection at Jeffersontown City Hall, 10416 Watterson Trail, Jeffersontown, Kentucky 40299.
Send comments to Honorable Clay Foreman, Mayor, Jeffersontown City Hall, 10416 Watterson Trail, Jeffersontown, Kentucky 40299.
City of Shively:
Maps are available for inspection at Shively City Hall, 3920 Dixie Highway, Louisville, Kentucky 40216-4120.
Send comments to Honorable Sherry Conner, Mayor, Shively City Hall, 3920 Dixie Highway, Louisville, Kentucky 40216-4120.
City of Matthews:
Maps are available for inspection at St. Matthews City Hall, 3940 Grandview Avenue, Louisville, Kentucky 40207.
Send comments to Honorable Arthur Draut, Mayor, St. Matthews City Hall, 3940 Grandview Avenue, Louisville, Kentucky 40207.
City of West Buechel:
Maps are available for inspection at West Buechel City Hall, 3705 Bashford Avenue, Louisville, Kentucky 40218.
Send comments to Honorable Sharon Fowler, Mayor, West Buechel City Hall, 3705 Bashford Avenue, Louisville, Kentucky 40218.
Kentucky | Whitley County (Uninc. Areas), City of Williamsburg | Cumberland River | Just downstream of State Route 204 | *907 | +906
|  |  | Approximately 4,570 feet upstream from Goodin Creek | None | +966
| *National Geodetic Vertical Datum 1929
+North American Vertical Datum 1988
ADDRESSES:
Unincorporated Areas of Whitley County:
Maps are available for inspection at Community Map Repository, Whitley County Courthouse, 310 Main Street, Williamsburg, Kentucky 40769.
Send comments to The Honorable Michael Patrick, County Judge-Executive, Whitley County Courthouse, 310 Main Street, Williamsburg, Kentucky 40769.
City of Williamsburg:
Maps are available for inspection at Community Map Repository, Williamsburg City Hall, office of Mayor, 116 North Second Street, Williamsburg, Kentucky 40769.
Send comments to The Honorable Joseph Early, Mayor, City of Williamsburg, P.O. Box 907, Williamsburg, Kentucky 40769.
Maine | Town of Eagle Lake, Aroostook County | Eagle Lake | Entire Shoreline at Eagle Lake Within the corporate limits | None | +581
+North American Vertical Datum 1988
ADDRESSES:
Town of Eagle Lake:
Maps are available for inspection at 36 Devoe Brook Road, Eagle Lake, Maine 04739.
Send comments to The Honorable James Nadeau, Town Manager, Town of Eagle Lake, 36 Devoe Brook Road, P.O. Box 287, Eagle Lake, Maine 04739.
Montana | Lincoln County | Big Cherry Creek | At the confluence with Libby Creek | *2,144 | *2,152
|  |  | Approximately 3,600 feet upstream of Granite Creek Road | None | *2,358
|  | Libby Creek | Just upstream of railroad crossing prior to confluence with Kootenai River | *2,060 | *2,065
|  |  | Approximately 3,500 feet upstream of U.S. Route 2 | None | *2,773
*National Geodetic Vertical Datum 1929.
ADDRESSES:
Unincorporated Areas of Lincoln County:
Maps are available for inspection at the County Courthouse, 512 California Avenue, Libby, Montana 59923.
Send comments to The Honorable John Konzen, Chairman, Lincoln County, 512 California Avenue, Libby, MT 59923.
New Hampshire | Town of Milan, Coos County | Androscoggin River | Approximately 7,800 feet of Halt Road extended | None | +1,109
|  |  | Approximately 1,500 feet upstream of Owens Road extended | None | +1,114
+North American Vertical Datum 1988
ADDRESSES:
Town of Milan:
Maps are available for inspection at the Town Hall, 20 Bridge Street, Milan, NH 03588.
Send comments to: The Honorable Richard Lamontagne, Chairman, Town of Milan, P.O. Box 300, Milan, NH 03588.
New Hampshire | Town of Wakefield, Carroll County | Belleau Lake | At Moose Road | *579 | +584
|  |  | Entire Shoreline of Belleau Lake above Woodman Lake | *579 | +584
*National Geodetic Vertical Datum 1929
+North American Vertical Datum 1988
ADDRESSES:
Town of Wakefield:
Maps are available for inspection at the Map Repository, Town of Wakefield, Assessor's Office, 2 High Street, Sanbornville, New Hampshire 03872.
Send comments to: Mr. Robin Frost, Town Administrator, Town of Wakefield, Town Office, 2 High Street, Sanbornville, New Hampshire 03872.
Pennsylvania | Township of Granville, Township of Oliver, Mifflin County (Uninc. Areas) | Strodes Run | Approximately at the confluence with Juniata River | None | +490
|  |  | Approximately 55 feet upstream of Ferguson Valley Road | None | +621
+North American Vertical Datum 1988
ADDRESSES:
Township of Granville
Maps are available for inspection at the Granville Municipal Offices, 100 Helen Street Lewistown, PA 17044.
Send comments for Granville Township to The Honorable Charles Watts, III Chairman, Granville Township Supervisors 100 Helen Street, Lewistown, Pennsylvania 17044.
Township of Oliver
Maps are available for inspection at Municipal Offices, 274 Lockport Road, Lewistown, PA 17044.
Send comments for Oliver Township to The Honorable Robert D. Smith Chairman, Oliver Township Supervisors 274 Lockport Road Lewistown, Pennsylvania 17044.
South Carolina | Sumter County | Beech Creek | Approximately 1.1 miles upstream of Barnwell Drive | *181 | *180
|  |  | Approximately 100 feet downstream of Edgehill Road | None | *225
|  | Beech Creek | At the confluence with Beech Creek | *168 | *168
|  | Tributary 1 | Approximately 150 feet downstream of Raccoon Road | None | *193
|  | Brunson Branch | At the confluence with Mulberry Branch | None | *133
|  |  | Approximately 700 feet upstream of Oswego Highway | None | *144
|  | Brunson Branch | At the confluence with Brunson Branch | None | *134
|  | Tributary 1 | Approximately 0.6 mile upstream of the confluence of Cut Through 1 | None | *143
|  | Cane Savannah Creek | Approximately 200 feet downstream of Kolb Road | *138 | *138
|  |  | Approximately 250 feet upstream of Wedgefield Highway | None | *164
|  | Cut Through 1 | At the confluence with Brunson Branch Tributary 1 | None | *140
|  |  | Just downstream of Jerry Street | None | *144
|  | Cut Through 2 | At the confluence with Mulberry Branch | None | *134
|  |  | Just downstream of Jerry Street | None | *144
|  | Green Swamp | Approximately 250 feet downstream of Mason Road | *169 | *169
|  |  | Approximately 50 feet downstream of Brewington Road | None | *189
|  | Hatchet Camp Beach | At confluence with Cane Savannah Creek | None | *160
|  |  | Approximately 1.1 miles upstream of Bronco Road | None | *256
|  | Hope Swamp | At the confluence with Pudding Swamp | None | *108
|  |  | Approximately 100 feet downstream of Narrow Paved Road | None | *116
|  | Horsepen Branch | At the confluence with Green Swamp | None | *181
|  |  | Approximately 250 feet downstream of Stamey Livestock Road | None | *203
|  | Long Branch | Approximately 330 feet downstream of Broad Street | *173 | *173
|  |  | Approximately 350 feet downstream of Frierson Road | None | *223
|  | Lynches River | Approximately 7.7 miles downstream of Amwell Church Road | None | *99
|  |  | Approximately 1000 feet downstream of Interstate 95 | None | *120
|  | Mile Branch | At the confluence with Brunson Branch | None | *140
|  |  | Approximately 0.2 mile downstream of U.S. Route 378 and 76 | None | *143
|  | Mulberry Branch | At the confluence with Rocky Bluff Swamp | *133 | *133
|  |  | Approximately 150 feet downstream of Main Street | None | *167
|  | Mulberry Branch | At the confluence with Mulberry Branch | None | *134
|  | Tributary 1 | Approximately 1.3 miles upstream of the confluence with Mulberry Branch | None | *143
|  | Mush Swamp | Approximately 850 feet downstream of Loring Mill Pond Road | *162 | *162
|  |  | Approximately 50 feet upstream of Eagle Road | None | *204
|  | Nasty Branch | At the confluence with Cane Savannah Creek | *131 | *128
|  |  | Approximately 250 feet downstream of Bethel Church Road | None | *175
|  | Noyts Branch | At the confluence of Green Swamp | *129 | *129
|  |  | Approximately 350 feet upstream of Main Street | None | *159
|  | Pocalla Creek | At the confluence with Pocotaligo River | *121 | *121
|  |  | Approximately 250 feet downstream of South Guignard Drive | None | *168
|  | Pudding Swamp | Approximately 300 feet downstream of Forge Road | None | *103
|  |  | Approximately 200 feet downstream of Trinity Road | None | *125
|  | Rocky Bluff | Approximately 0.8 mile upstream of the confluence of Mulberry Branch | *134 | *134
|  |  | Approximately 900 feet downstream of Westbury Mill Road | None | *168
|  | Shot Pouch Branch | At the confluence with Green Swamp | *138 | *138
|  |  | Approximately 450 feet downstream of Jefferson Road | None | *176
|  | Sooks Branch | At the confluence of Green Swamp | *133 | *133
|  |  | Approximately 75 feet upstream of Council Lane | None | *157
*National Geodetic Vertical Datum 1929
ADDRESSES:
City of Sumter:
Maps are available for inspection at 33 North Main Street, Sumter, SC, 29150.
Send comments to The Honorable Joseph T. McElveen Jr., Mayor, City of Sumter, P.O. Box 1449, Sumter, SC 29151.
Unincorporated Areas of Sumter County:
Maps are available for inspection at 33 North Main Street, Sumter, SC 29150.
Send comments to Mr. William T. Noonan, Sumter County Administrator, 13 East Canal Street, Sumter, SC 29150.
South Dakota | City of Parkston, Hutchinson County | Pony Creek | Approximately 1,100 feet downstream of Glynn Drive | None | *1,378
|  |  | Approximately 200 feet upstream of Highway 37 | None | *1,407
*National Geodetic Vertical Datum 1929
ADDRESSES:
City of Parkston:
Maps are available for inspection at the Office of the Chief Executive Officer, 207 West Main Street, Parkston, South Dakota 57366.
Send comments to the Honorable David J. Hoffman, Mayor, City of Parkston, 207 West Main Street, Parkston, South Dakota 57366.
Utah | City of Eureka, Juab County | Eureka, Gulch | Approximately 0.52 mile downstream of Church Street | None | +6,303
|  |  | Approximately 550 feet upstream of Bulk Plant Road | None | +6,571
+National American Vertical Datum 1988
ADDRESSES:
City of Eureka:
Maps are available for inspection at the office of the Chief Executive Officer at City Hall, 15 North Church Street, Eureka, UT 84628.
Send comments to the Honorable Lloyd Conder, Mayor, City of Eureka, P.O. Box 156, Eureka, Utah 84626.
West Virginia | Ohio County (Uninc. Areas) | Little Wheeling Creek | Approximately 475 feet upstream of Middle Wheeling Creek Road | None | *718
|  |  | Approximately 158 feet upstream of U.S. Route 40 | None | *782
*National Geodetic Vertical Datum 1929
ADDRESSES:
Unincorporated areas of Ohio County:
Maps are available for inspection at the City County Building, 1500 Chapline Street, Room 215, Wheeling, WV 26003.
Send comments to Mr. Greg Stewart County Administrator, 1500 Chapline Street, Room 215, Wheeling, WV 26003.

Flooding source(s) | Location of referenced elevation | Elevation in feet *(NGVD) Elevation in feet +(NAVD): Effective | Elevation in feet *(NGVD) Elevation in feet +(NAVD): Modified | Communities affected
Larimer County, Colorado and Incorporated Areas
Big Thompson River: | Approximately 150 feet upstream of Boyd Lake Outlet Ditch | None | +4,880 | Larimer County (Uninc. Areas), City of Loveland.
| Approximately 300 feet west of Lincoln Avenue and approximately 1,700 feet west of St. Louis Avenue | None | #2
| Just downstream of St. Louis Avenue | +4,920 | +4,923
| Just upstream of St. Louis Avenue | +4,921 | +4,924
| Just east of Taft Avenue to 900 feet west of Taft Avenue Garfield Avenue | None | #1
| South of Dry Creek and north of Rossum Drive | None | #3
| Approximately 1,400 feet upstream of confluence of Dry Creek | None | +5,046
Dry Creek: | Just upstream of confluence with Big Thompson River | None | +5,043 | City of Loveland
| Approximately 0.4 miles upstream of confluence with Big Thompson River | None | +5,065
Big Thompson River—South Spill: | At confluence with Big River | None | +4,938 | Larimer County (Uninc. Areas) and City of Loveland.
| Just upstream of Taft Avenue | None | +4,970
Big Thompson River—Grave Pit Split: | At confluence with Big Thompson River Approximately 1,900 feet upstream of confluence with Big Thompson River | None | +4,888 | Larimer County (Uninc. Areas)
|  | None | +4,899
Big Thompson River: | Approximately 800 feet upstream of Larimer-Weld County Line | None | +4,812 | Larimer County (Uninc. Areas) and Town Johnstown
| Approximately 800 feet of upstream of County Road 3 | None | +4,829
| Just upstream of I-25 | None | +4,852
+North American Vertical Datum
#Depth in feet above ground
ADDRESSES:
Unincorporated Areas Larimer County:
Maps are available for inspection at the Larimer County Courthouse, 200 West Oak Street, Fort Collins, Colorado 80521.
Send comments to the Honorable Kathay Rennels, Chair, Larimer County Board of Commissioners, P.O. Box 1190, Fort Collins, Colorado 80522-1190.
City of Loveland:
Maps are available for inspection at City Hall, 500 East Third Street, Loveland, Colorado 80537.
Send comments to the Honorable Larry Walsh, Mayor, City of Loveland, 500 East Third Street, Loveland, Colorado 80537.
Town of Johnstown:
Maps are available for inspection at the Town Hall, 101 Charlotte Street, Johnstown, Colorado 80534.
Send comments to the Honorable Troy D. Mellon, Mayor, Town of Johnstown, 101 Charlotte Street, Johnstown, Colorado 80534.
Henry County, Georgia and Incorporated Areas
Little Cotton Indian Creek | At the confluence with Big Cotton Indian Creek. | +654 | +655 | Henry County (Uninc. Areas).
| Approximately 1,000 feet upstream of the confluence with Big Cotton Indian Creek | +654 | +655
+North American Vertical Datum 1988.
ADDRESSES:
Henry County, Georgia (Unincorporated Areas):
Maps are available for inspection at the Community Map Repository, 140 Henry Parkway, McDonough, Georgia, 30253.
Send comments to Mr. Rob Magnaghi, Henry County Manager, 140 Henry Parkway, McDonough, Georgia 30253.
Peoria County, Illinois and Incorporated Areas
Fargo Run | At the confluence with Kickapoo Creek | None | +551 | Peoria County (Uninc. Areas).
| At the confluence with Illinois State Highway | None | +712 | City of Peoria.
Unnamed Tributary ‘A’ of Fargo Run | At confluence with Fargo Run | None | +617 | Peoria County (Uninc. Areas).
| West branch: Just upstream of U.S. Highway 150 | None | +663
| East branch: Just downstream of Blackbridge Road | None | +640
Unnamed Tributary ‘B’ of Fargo Run | At the confluence with Fargo Run | None | +618 | Peoria County (Uninc. Areas).
| Approximately 440 feet upstream of Challacomb Road | None | +630
+North American Vertical Datum 1988
ADDRESSES:
Unincorporated areas of Peoria County:
Maps available for inspection at Peoria County Planning and Zoning Offices, Peoria County Courthouse, 324 Main Street, Peoria, Illinois 61602.
Send comments to Mr. Matthew Wahl, Director, Peoria County Planning and Zoning, 324 Main Street, Room 301, Peoria, Illinois 61602.
Village of Bartonville:
Maps are available for inspection at the Bartonville Village Hall, 5912 S. Adams Street, Bartonville, Illinois 61607.
Send comments to Ms. Cindi Stafford, Village Clerk, 5912 S. Adams Street, Bartonville, Illinois 61607.
Village of Bellevue:
Maps are available for inspection at the Bellevue Village Hall, 320 Main Street, Peoria, Illinois 61604.
Send comments to Mr. Ralph Wilson, Village President, 320 Main Street, Peoria, Illinois 61604.
City of Chillicothe:
Maps are available for inspection at Chillicothe City Hall, Attn: Sharon Crabel, City Clerk, 908 N. Second Street, Chillicothe, Illinois 61602.
Send comments to Mr. Ken Coulter, Chillicothe City Engineer, 908 N. Second Street, Chillicothe, Illinois 61602.
City of Elmwood:
Maps are available for inspection at the Elmwood City Hall, 116 W. Main Street, Elmwood, Illinois 61529.
Send comments to Ms. Dotty Nauman, City Clerk, 116 W. Main Street, Elmwood, Illinois 61529.
Village of Glasford:
Maps are available for inspection at the Glasford City Hall, 301 S. Oak Street, Glasford, Illinois 61533.
Send comments to Honorable Jack Rudd, Mayor, 301 S. Oak Street, Glasford, Illinois 61533.
Village of Hanna City:
Maps are available for inspection at the Hanna City Village Hall, 313 N. First Street, Hanna City, Illinois 61536.
Send comments to Honorable Fred Winterroth, Mayor, 313 N. First Street, Hanna City, Illinois 61536.
Village of Kingston Mines:
Maps are available for inspection at Village of Kingston Mines, 209 Washington Street, Kingston Mines, Illinois 61539.
Send comments to Ms. Charlette Hancock, 209 Washington Street, Kingston Mines, Illinois 61539.
Village of Mapleton:
Maps are available for inspection at Mapleton Village Hall, 8524 W. Main Street, Mapleton, Illinois 61547.
Send comments to Mr. Ken Oedewaldt, Village President, 8524 W. Main Street, Mapleton, Illinois 61547.
Village of Norwood:
Maps are available for inspection at Norwood Village Hall, 1515 N. Norwood Boulevard, Peoria, Illinois 61604.
Send comments to Mr. Jim Yocum, Village President, 1515 N. Norwood Boulevard, Peoria, Illinois 61604.
City of Pekin:
Maps are available for inspection at Pekin City Hall, 111 Capital Street, Pekin, Illinois 61554.
Send comments to Mr. Ron Sieh, Code Enforcement Officer, 111 Capital Street, Pekin, Illinois 61554.
Village of Peoria Heights:
Maps are available for inspection at Peoria Heights Village Hall, 4901 N. Prospect Road, Peoria Heights, Illinois 61616.
Send comments to Mr. Tom Horstmann, Village Administrator, 4901 N. Prospect Road, Peoria Heights, 61616.
City of Peoria:
Maps are available for inspection at the City of Peoria Public Works Department, 419 Fulton Street, Peoria, Illinois 61602.
Send comments to Mr. Ken Andrejasich, Permit Engineer, City of Peoria Public Works Department, 419 Fulton Street #307, Peoria, Illinois 61602.
Village of Princeville:
Maps are available for inspection at the Princeville Village Hall, 206 N. Walnut Avenue, Princeville, Illinois 61559.
Send comments to Mr. Sid Stahl, Village President, 206 N. Walnut Avenue, Princeville, Illinois 61559.
City of West Peoria:
Maps are available for inspection at the West Peoria City Hall, 2506 W. Rohmann Avenue, West Peoria, Illinois 61604.
Send comments to Mr. John Carson, City Administrator, 2506 W. Rohmann Avenue, West Peoria, Illinois 61604.
Dekalb County, Indiana and Incorporated Areas
Cedar Creek | County Road 72 | None | +816 | DeKalb County (Uninc. Areas), City of Auburn, Town of Waterloo.
| Approximately 1,700 feet upstream of County Road 20 | None | +905
St. Joe River | Approximately 10,400 feet downstream of County Road 68 | None | +791 | Dekalb County (Uninc. Areas).
| Approximately 7,600 feet upstream of County Road 79 | None | +813 | Town of St. Joe
Little Cedar Creek | Approximately 1,800 feet downstream of County County Road 327 | None | +818 | Dekalb County (Uninc. Areas).
| Approximately 2,000 feet upstream of confluence Harvey Guthrie Ditch | None | +857
Black Creek | Approximately 800 feet upstream of confluence with Little Cedar Creek | None | +830 | Dekalb County (Uninc. Areas).
| Approximately 3,600 feet upstream of State Road 3 | None | +853
Fish Creek | Approximately 5,000 feet downstream of County Road 79 | None | +840 | Dekalb County (Uninc. Areas).
| Approximately 4,000 feet upstream of County Road 65A | None | +884
Peckhart Drain | Approximately at confluence with Diehl Drain | None | +861 | Dekalb County (Uninc. Areas).
| Approximately at County Road 40 | None | +877 | City of Auburn.
Diehl Drain | Approximately at confluence with Cedar County Creek | None | +847 | Dekalb County (Uninc. Areas).
| Approximately 100 feet upstream of County Road 15 | None | +878 | City of Auburn, City of Garrett.
+North American Vertical Datum 1988
ADDRESSES:
DeKalb County:
Maps available for inspection at DeKalb County Planning Commission, 301 S. Union Street, Auburn, Indiana.
Send comments to Sally Rowe, Zoning Administrator, 301 S. Union Street, Auburn, Indiana, 46706.
Town of Hamilton:
Maps are available for inspection at the Zoning Administrator’s Office, 7750 South Wayne Street, Hamilton, Indiana.
Send comments to Keith Smith, Zoning Administrator, 7750 South Wayne Street, Hamilton, Indiana, 46742.
City of Auburn:
Maps available for inspection at the Building, Planning and Development Department 210 Cedar Street, Auburn, Indiana.
Send comments to Bill Spohn, Administrator, Building, Planning and Development, 210 Cedar Street, Auburn, Indiana 46706.
City of Butler:
Maps available for inspection at Butler City Utility Office, 201 South Broadway, Butler, Indiana.
Send comments to Amy Schweitzer, City Planner, 201 South Broadway, Butler, Indiana 46721.
City of Garrett:
Maps available for inspection at Garrett Planning Department, 130 South Randolph Street, Garrett, Indiana.
Send comments to Steve Bingham, Planning Director, City of Garrett, 130 South Randolph Street, Garrett, Indiana 46738.
Town of Corunna:
Maps available for inspection at Corunna Town Hall, 102 N. Bridge Street, Corunna, Indiana.
Send comments to Cassandra Lynch, Clerk Treasurer, 102 N. Bridge Street, Corunna, Indiana 40730.
Town of Waterloo:
Maps available for inspection at Town Hall, 280 N. Wayne Street, Waterloo, Indiana.
Send comments to DeWayne Nodine, 280 N. Wayne Street, Waterloo, Indiana 46793.
Town of St. Joe:
Maps available for inspection at St. Joe Town Hall, 102 Third Street, St. Joe, Indiana.
Send comments to Laura Spuller, Clerk Treasurer, 102 Third Street, St. Joe, Indiana 46785.
Town of Ashley:
Maps available for inspection at Clerk-Treasurer's Office, 500 S. Gonser Avenue, Ashley, Indiana.
Send comments to Don Farrington, Superintendent, 500 S. Gonser Avenue, Ashley, Indiana, 46705.
Town of Altona:
Maps available for inspection at Town Clerk-Treasurer's Office, 1202 W. Quincy Street, Garrett, Indiana.
Send comments to Max Milks, Clerk-Treasurer, 1202 W. Quincy Street, Garrett, Indiana 46738.
Johnson County, Indiana and Incorporated Areas
Brewer Ditch | At confluence with Youngs Creek | None | +749 | Johnson County (Uninc Areas), City of Franklin, Town of Whiteland.
| Approximately 1,600 feet downstream of U.S. Highway 31 | None | +782.
Brewers Ditch | Approximately 1,600 feet downstream of U.S. Highway 31 | *780 | +782 | Town of Whiteland.
| Approximately at County Road 125 | *800 | +802
Canary Ditch | At confluence with Youngs Creek | *742 | +744 | Johnson County (Uninc Areas) and City of Franklin.
| Approximately 1,300 feet upstream of Earlywood Drive | *768 | +767
Canary Ditch | Approximately 1,300 feet upstream of Earlywood Drive | None | +767 | Johnson County (Uninc Areas).
| Approximately 1,900 feet upstream of County Road East 400 North | None | +784
East Grassy Creek | At confluence with Grassy Creek | None | +781 | Johnson County (Uninc Areas).
| Approximately at Whiteland Road | None | +782
East Grassy Creek | Approximately at Whiteland Road | *784 | +785 | Johnson County (Uninc Areas), Town of New Whiteland, Town of Whiteland.
| Approximately at Tracy Road | *807 | +810
East Grassy Creek | Approximately at Tracy Road | None | +810 | Johnson County (Uninc Areas).
| Approximately 300 feet upstream of County Road East 750 North | None | +820
Graham Ditch | At confluence with Canary Ditch | None | +761 | Johnson County (Uninc Areas) and City of Franklin.
| Approximately 1,500 feet upstream of Earlywood Drive | None | +768
Grassy Creek | Approximately 2,400 feet upstream of County Road West 200 North | None | +766 | Johnson County (Uninc Areas), City of Greenwood, Town of Whiteland, Town of New Whiteland.
| Approximately 750 feet downstream of Granada Drive | None | +809
Grassy Creek | Approximately 750 feet downstream of Granada Drive | *809 | +809 | City of Greenwood.
| Approximately 250 feet upstream of Fiesta Drive | *815 | +814
Grassy Creek | Approximately 250 feet upstream of Fiesta Drive | None | +814 | City of Greenwood.
| Approximately 300 feet downstream of Interstate 65 | None | +821
Hurricane Creek | At confluence with Youngs Creek | *724 | +723 | City of Franklin.
| Approximately at Upper Shelbyville Road | *728 | +728
Hurricane Creek | Approximately at Upper Shelbyville Road | None | +728 | Johnson County (Uninc Areas).
| Approximately at County Road 375 East | None | +811
Tracy Ditch | At confluence with Grassy Creek | None | +789 | Johnson County (Uninc Areas) and City of Greenwood.
| Approximately 50 feet upstream of West Stop 18 Road | None | +794
Youngs Creek | Approximately 7,500 feet upstream of U.S. Highway 31 | *712 | +712 | Johnson County (Uninc Areas) and City of Franklin.
| Approximately 4,000 feet upstream of South Morton Street | *727 | +729
Youngs Creek | Approximately 4,000 feet upstream of South Morton Street | None | +729 | Johnson County (Uninc Areas) and City of Franklin.
| At confluence with Roberts Ditch | None | +766
* National Geodetic Vertical Datum 1929
+ North American Vertical Datum 1988
ADDRESSES:
Johnson County:
Maps available for inspection at Johnson County Planning Zoning, 86 West Court Street, Franklin, IN.
Send comments to Mr. Allen D. Kirk, PE, Planning Engineer, 86 West Court Street, Franklin, IN 46131.
Town of Edinburgh:
Maps available for inspection at Town Hall, 107 S. Holland Street, Edinburgh, IN.
Send comments to Mr. Jim Wray, Planning & Zoning, 107 S. Holland Street, Edinburgh, IN 46124.
City of Franklin:
Maps available for inspection at Planning Department, 55 W. Madison Street, Franklin, IN.
Send comments to Mr. David Weir, AICP, Planning Director, 55 W. Madison Street, Franklin, IN 46131.
City of Greenwood:
Maps available for inspection at Planning Department, 225 E. Emerson Avenue, Greenwood, IN.
Send comments to Mr. Ed Ferguson, Planning Director, 225 E. Emerson Avenue, Greenwood, IN 46143.
Town of New Whiteland:
Maps available for inspection at Town Hall, 401 Mooreland Drive, New Whiteland, IN.
Send comments to Mr. Tim Guyer, Zoning Administrator, 401 Mooreland Drive, New Whiteland, IN 46184.
Town of Prince's Lake:
Maps available for inspection at Town Hall, 14 E. Lakeview Drive, Nineveh, IN.
Send comments to Mr. Albert M. Cornell, Building Inspector, 14 E. Lakeview Drive, Nineveh, IN 46164.
Town of Whiteland:
Maps available for inspection at Whiteland Town Hall, 549 Main Street, Whiteland, IN.
Send comments to Mr. Dennis Capozzi, Town Manager, 549 Main Street, Whiteland, IN 46184.
Harlan County, Kentucky and Incorporated Areas
Catron Creek | At the confluence of Catron Creek with Martins Fork | +1,186 | +1,188 | Harlan County (Unincorporated Areas), City of Harlan.
| Approximately 270 feet upstream of the confluence of Lower Double Branch | *1,473 | +1,472
Clover Fork | At the confluence of Clover For with Cumberland River | *1,177 | +1,178 | Harlan County (Unincorporated Areas).
| Approximately 1,140 feet upstream of the confluence of Breedens Creek | None | +1,722 | City of Evarts, City of Harlan.
Cloverlick Creek | At the confluence of Cloverlick Creek with Poor Fork. | *1,427 | +1,427 | City of Loyall.
| Approximately 45 feet upstream of the confluence of Gilley Branch | None | +1,453 | Harlan County (Unincorporated Areas), City of Cumberland.
Cumberland River | Apprximately 1,440 feet downstream of the confluence of Jerry's Branch | *1,100 | +1,098 | Harlan County (Unincorporated Areas), City of Loyall.
| At the confluence of Clover Fork and Poor Fork | *1,177 | +1,178 | City of Wallins Creek.
Looney Creek | At the confluence of Looney Creek with Poor Fork | *1,437 | +1,437 | Harlan County (Unincorporated Areas, City of Benham, City of Cumberland, City of Lynch.
| Approximately 735 feet downstream of the confluence of Long Rock Branch | *1,886 | +1,884
Martins Fork | At the confluence of Martins Fork with Clover Fork | *1,180 | +1,181 | Harlan County (Unincorporated Areas), City of Harlan.
| Approximately 2,990 feet upstream of the confluence of Raccoon Branch | None | +1,264
Poor Fork | At the confluence of Poor Fork with Cumberland River | *1,177 | +1,178 | Harlan County (Unincorporated Areas), City of Cumberland, City of Loyall.
| Approximately 3,670 feet upstream of the confluence of Coldiron Branch | *1,521 | +1,522 | City of Cumberland, City of Loyall.
Wallins Creek | At the confluence of Wallins Creek with Cumberland River | *1,132 | +1,133 | Harlan County (Unincorporated Areas).
| Approximately 175 feet upstream of the confluence of Brock Branch | None | +1,154 | City of Wallins Creek.
Yocum Creek | At the confluence of Yocum Creek with Clover Fork | *1,297 | +1,300 | Harlan County (Unincorporated Areas).
| Approximately 575 feet downstream of the confluence of Reds Creek | None | +1,519
* National Geodetic Vertical Datum
+ North American Vertical Datum
ADDRESSES:
Unincorporated areas of Harlan County:
Maps are available for inspection at the County Courthouse, Harlan, Kentucky 40871.
Send comments to The Honorable Joseph Grieshop, County Judge, Harlan County, Executive 210 East Central Street, Suite 111, Harlan, Kentucky 40831.
City of Benham:
Maps are available for inspection at the County Courthouse, Harlan, Kentucky 40871.
Send comments to The Honorable Betty Joe Howard, Mayor, City of Benham, 333 Main Street, Benham, Kentucky 40807.
City of Cumberland:
Maps are available for inspection at the County Courthouse, Harlan, Kentucky 40871.
Send comments to The Honorable William Harrison, Mayor, City of Cumberland, 402 West Main Street, Cumberland, KY 40823.
City of Evarts:
Maps are available for inspection at the County Courthouse, Harlan, Kentucky 40871.
Send comments to The Honorable Burl Fee, Mayor, City of Evarts, Post Office Box 303, Evarts, Kentucky 40828.
City of Harlan:
Maps are available for inspection at the County Courthouse, Harlan, Kentucky 40871.
Send comments to The Honorable Daniel Howard, Mayor, City of Harlan, Post Office Box 783, Harlan, Kentucky 40828.
City of Loyall:
Maps are available for inspection at the County Courthouse, Harlan, Kentucky 40871.
Send comments to The Honorable Charles Wattenberger, Mayor, City of Loyall, Post Office Box 1060, Loyall, Kentucky 40854.
City of Lynch:
Maps are available for inspection at the County Courthouse, Harlan, Kentucky 40871.
Send comments to The Honorable Thomas Vincini, Mayor, City of Lynch, 6 East Main Street, Lynch, Kentucky 40855.
City of Willins Creek:
Maps are available for inspection at the County Courthouse, Harlan, Kentucky 40871.
Send comments to The Honorable Freddy Burke, Mayor, City of Wallins Creek, Post Office Box 483, Evarts, Kentucky 40873.
Kent County, Michigan and Incorporated Areas
Behan-Foley Drain | At confluence with Buck Creek | None | +633 | City of Grandville and City of Wyoming.
| Approximately 1,100 feet downstream of Barcroft Drive SW | None | +687
Bostwick Lake |  | None | +852 | Cannon Township.
Brandywine Creek | At confluence with Indian Mill Creek | None | +655 | City of Grand Rapids and City of Walker.
| Approximately 1,100 feet south of Leonard Street | None | +731
Brandywine Creek Tributary 1 | At confluence with Brandywine Creek | None | +731 | City of Walker.
| Approximately 1,200 feet north of Hazelnut Drive | None | +736
Brandywine Creek Tributary 2 | At confluence with Brandywine Creek | None | +731 | City of Walker.
| Approximately 200 feet east of Kusterer Avenue | None | +731
Buck Creek | Approximately 500 feet downstream of Clyde Park Avenue SW | *658 | +658 | Byron Township and City of Wyoming.
| 100th Street SW | None | +709
Buck Lake |  | None | +770 | Caledonia Township.
Campau Lake |  | *763 | +762 | Caledonia Township.
Grand River | City of Walker/Plainfield Township | *619 | +619 | Plainfield Township.
| 4 Mile Road (Plainfield Township/Ada Township corporate limits) | *626 | +626
Indian Mill Creek | At confluence with Grand River | None | +616 | Alpine Township, City of Grand Rapids, City of Walker.
| Approximately 1,500 feet south of 6 Mile Road | None | +758
Indian Mill Creek Tributary 1 | At confluence with Indian Mill Creek | None | +758 | Alpine Township.
| Approximately 900 feet west of Fruit Ridge Avenue | None | +784
Indian Mill Creek Tributary 2 | At confluence with Indian Mill Creek | None | +758 | Alpine Township.
| Approximately 800 feet south of 7 Mile Road | None | +801
Lake Bella Vista |  | None | +829 | Cannon Township.
| At confluence with Grand River | None | +623 | Algoma Township, Plainfield Township, Sparta Township, Tyrone Township, City of Rockford, Village of Sparta.
| Approximately 1,400 feet upstream of confluence with Grand River | None | +606 | City of Grandville and City of Wyoming.
Roys Creek | Approximately 700 feet upstream of Prairie | None | +629
Silver Lake |  | None | +855 | Cannon Township.
*National Geodetic Vertical Datum 1929
+North American Vertical Datum 1988
ADDRESSES:
Kent County:
Maps available for inspection at Kent County Drain Commission, 1500 Scribner Avenue NW., Grand Rapids, MI 49504.
Send comments to Mr. Doug Sporte, Drain Commissioner, Kent County Drain Commission, 1500 Scribner Avenue NW., Grand Rapids, MI 49504.
Ada Township:
Maps available for inspection at Ada Township Office, 7330 Thornapple River Drive, Ada, MI 49301.
Send comments to Mr. James E. Ferro, Planning Director, 7330 Thornapple River Drive, Ada, MI 49301.
Algoma Township:
Maps available for inspection at Attn: Clerk, Algoma Township, 10531 Algoma Avenue, Rockford, MI 49341.
Send comments to Mr. Don Bates, Building Official, 10531 Algoma Avenue, Rockford, MI 49341.
Byron Township:
Maps available for inspection at Attn: Mr. Randy Zomerlei, Byron Township Hall, 8085 Byron Center Avenue SW., Byron Center, MI 49315
Send comments to Mr. Randy Zomerlei, Building Inspector, 8085 Byron Center Avenue SW., Byron Center, MI 49315.
Caledonia Township:
Maps available for inspection to Mr. Ed Rusticus, Caledonia Township Town Hall, 250 Mapel Street, Caledonia, MI 49316.
Send comments to Mr. Ed Rusticus, Zoning Administrator, 250 Mapel Street, Caledonia, MI 49316.
Cannon Township:
Maps available for inspection at Cannon Township Town Hall, 6878 Belding Road NE., Rockford, MI 49341.
Send comments to Mr. Doug Hopkins—IMS Co., 6878 Belding Road NE., Rockford, MI 49341.
Cascade Township:
Maps available for inspection at Cascade Township Planning Department, 2865 Thornhill SE., Grand Rapids, MI 49546.
Send comments to Mr. Steve Peterson, Planning Director, 2865 Thornhill SE., Grand Rapids, MI 49546.
City of Cedar Springs:
Maps available for inspection at City of Cedar Springs, 66 S. Main Street, Cedar Springs, MI 49319.
Send comments to Professional Code Inspectors, 66 S. Main Street, Cedar Springs, MI 49319.
City of East Grand Rapids:
Maps available for inspection at East Grand Rapids City Hall, 750 Lakeside Drive SE., East Grand Rapids, MI 49506.
Send comments to Mr. Ken Feldt, Director, City of East Grand Rapids, 750 Lakeside Drive SE., East Grand Rapids, MI 49506.
City of Grand Rapids:
Maps available for inspection at Bob Borek, Grand Rapids City Engineer's Office, 300 Monroe Avenue NW., Grand Rapids, MI.
Send comments to Mr. Bill Cole, Engineer, City of Grand Rapids, 300 Monroe Avenue NW., Grand Rapids, MI 49503.
City of Grandville:
Maps available for inspection at Attn: Dan Johnson, 3119 Wilson Avenue SW., Grandville, MI 49418.
Send comments to Mr. Dan Johnson, Assistant City Manager, City of Grandville, 3195 Wilson Avenue SW., Grandville, MI 49418.
City of Kentwood:
Maps available for inspection at City of Kentwood Engineering Department, 4900 Breton Road SE., Kentwood, MI 49518.
Send comments to Mr. Patrick T. Hughes, Assistant City Engineer, City of Kentwood, 4900 Breton Road, SE., Kentwood, MI 49518.
City of Lowell:
Maps available for inspection at City of Lowell City Hall, 301 E. Main Street, Lowell, MI 49331.
Send comments to Imperial Municipal Services, 301 E. Main Street, Lowell, MI 49331.
City of Rockford:
Maps available for inspection at City of Rockford City Hall, 7 S. Monroe Street, Rockford, MI 49341.
Send comments to Professional Code Inspectors, 7 S. Monroe Street, Rockford, MI 49341.
City of Walker:
Maps available for inspection at City of Walker City Hall, 4243 Remembrance Road NW., Walker, MI 49544.
Send comments to Mr. Scott Conners, City Engineer, 4243 Remembrance Road NW., Walker, MI 49544.
City of Wyoming:
Maps available for inspection at City of Wyoming Engineering Department, 2660 Burlingame Avenue, Wyoming, MI 49509.
Send comments to Mr. William Dooley, Director of Public Works, 2660 Burlingame Avenue, Wyoming, MI 49509.
Gaines Township:
Maps available for inspection at Attn: Jeff Gritter, 8555 Kalamazoo Avenue SE., Caledonia , MI 49316.
Send comments to Mr. Jeff Gritter, Township Engineer, 8555 Kalamazoo Avenue SE., Caledonia, MI 49316.
Grand Rapids Township:
Maps available for inspection at Grand Rapids Township Hall, 1836 Beltline Avenue, NE., Grand Rapids, MI 49525.
Send comments to Mr. Michael DeVries, Supervisor, 1836 Beltline Avenue, NE., Grand Rapids, MI 49525.
Lowell Township:
Maps available for inspection at Lowell Township Town Hall, 2910 Alden Nash Avenue SE., Lowell, MI 49331.
Send comments to Mr. Butch Visser, Building Official, 2910 Alden Nash Avenue, SE., Lowell, MI 49331.
Plainfield Township:
Maps available for inspection at Plainfield Township Building Inspections Department, 6161 Belmont Avenue NE., Belmont, MI.
Send comments to Mr. Robert C. Homan, Township Manager, 6161 Belmont Avenue. NE., Belmont, MI 49306.
Solon Township:
Maps available for inspection at Solon Township Town Hall, 2305 19 Mile Road, Cedar Springs, MI 49319.
Send comments to Mr. Bob Ellick, Supervisor, 2305 19 Mile Road, Cedar Springs, MI 49319.
Sparta Township:
Maps available for inspection at Sparta Township, 160 E. Division Street, Sparta, MI 49345.
Send comments to Mr. Casey Patterson, Building Inspector, 160 E. Division Street, Sparta, MI 49345.
Tyrone Township:
Maps available for inspection at Tyrone Township, 28 E. Muskegon Street, Kent City, MI 49330.
Send comments to Mr. Casey Patterson, Building Inspector, 28 E. Muskegon Street, Kent City, MI 49330.
Vergennes Township:
Maps available for inspection at Vergennes Township Town Hall, 10381 Bailey Drive NE., Lowell, MI 49331.
Send comments to Mr. Tim Wittenbach, Supervisor, 10381 Bailey Drive NE., Lowell, MI 49331.
Village of Casnovia:
Maps available for inspection at Village of Casnovia Town Hall, 141 N. Main Street, Casnovia, MI 49318.
Send comments to Imperial Municipal Services, 141 N. Main Street, Casnovia, MI 49318.
Village of Kent City:
Maps available for inspection at Village of Kent City Village Office, 83 Spring Street, Kent City, MI 49330.
Send comments to Mr. Steven Buckner, Village President, 83 Spring Street, Kent City, MI 49330.
Village of Sparta:
Maps available for inspection at Sparta Township, 160 E. Division Street, Sparta, MI 49345.
Send comments to Mr. Casey Patterson, Building Inspector, 160 E. Division Street, Sparta, MI 49345.
Barry County, Missouri and Incorporated Areas
Chapel Drain | At confluence with Kelly | None | +1,328 | City of Monett.
| Just upstream of Chapel Drive | None | +1,336
Tributary #1 to Unnamed | At confluence with Unnamed Tributary | None | +1,326
Tributary to Clear Creek | Approximately 750 feet upstream of confluence with Unnamed Tributary | None | +1,333
Unnamed Tributary to Clear Creek: | At Lawrence County—Barry County Boundary | None | +1,285
| Approximately 1075 feet upstream of Missouri | None | +1,377
| State Highway “H” and just downstream of Farm Road 2330. |  |
+North American Vertical Datum 1988
ADDRESS:
City of Monett:
Maps are available for inspection at City Hall, 217 Fifth Street, Monett, MO 65708.
Send comments to The Honorable James Orr, Mayor, City of Monett, P.O. Box 110, Monett, MO 65708.
Blaine County, Montana and Incorporated Areas
Milk River: | Approximately 2.5 river miles downstream of U.S. Highway 2 | None | +2,287 | Blaine County (Uninc. Areas) and Fort Belknap Indian Reservation.
| Approximately 4.7 river miles upstream of Kennedy Road | None | +2,360
Peoples Creek: | At confluence with Milk River | None | +2,297 | Fort Belknap Indian Reservation.
| Approximately 11.5 miles upstream of confluence with Milk River (approximately 2.8 miles upstream of Road Bridge) | None | +2,339
Peoples Creek-Split Flow: | Approximately 1.2 river miles upstream of confluence with South Dodson Canal | None | +2,288 | Fort Belknap Indian Reservation.
| Approximately 3.2 river miles upstream of Lodgepole Highway | None | +2,319
+North American Vertical Datum 1988
ADDRESSES:
Unincorporated Areas of Blaine County:
Maps are available for inspection at the County Courthouse, 400 Ohio Street, Chinook, MT 59523.
Send comments to Honorable Don Swenson, Chairman, Blaine County Board of Commissioners, 400 Ohio Street, Chinook, MT 59523.
Fort Belknap Indian Reservation:
Maps are available for inspection at the Tribal Office Building, Highway 2 & Route 66, Harlem, MT 59526.
Send comments to Honorable Benjamin Speakthunder, Tribal Council President, Rural Route 1, Box 6, Harlem, MT 59526.
Licking County, Ohio and Incorporated Areas
Beaver Run | Approximately 200 feet downstream of State Route 79 | *870 | +869 | Licking County (Unic. Areas).
| Approximately 400 feet downstream of Canyon Road | *889 | +886 | Village of Hebron.
Bell Run | Approximately 800 feet downstream of U.S. Route 40 | *894 | +897 | Licking County (Unic. Areas).
| Just downstream of Refugee Road | *904 | +903
Buckeye Lake |  | None | +893 | Licking County (Unic. Areas), Village of Buckeye Lake.
Clear Run | Approximately 2,000 feet downstream of Newark-Granville Road | *910 | +902 | Licking County (Uninc. Areas), Village of Granville.
| Approximately at State Route 661 | *972 | +966
Heath Lateral B | Approximately 160 feet upstream of Franklin Avenue | *841 | +838 | City of Heath, City of Newark.
| Approximately 320 feet upstream of State Route 13 | *870 | +866
Heath Lateral C | Approximately 400 feet downstream of 30th Street | *843 | +844 | City of Heath.
| Approximately 6,336 feet upstream of State Route 79 | *877 | +876
Heath Lateral D | Just upstream of Irving Wick Drive East | *915 | +908 | Licking County (Uninc. Areas), City of Heath.
| Approximately 1,890 feet upstream of Irving Wick Drive East | *935 | +936
Heath Lateral E | Approximately 1,250 feet downstream of Conrail Railroad | *893 | +894
| Just downstream of State Route 79 | *863 | +862
Heath Lateral EA | Approximately at confluence with Heath Lateral E | *873 | +885 | Licking County (Uninc. Areas), City of Heath.
| Approximately 3,600 feet upstream of confluence with Heath Lateral E | *893 | +891
Heath Lateral F | Approximately 320 feet downstream of confluence with Heath Lateral FA | *878 | +877 | City of Heath.
| Approximately 1,140 feet upstream of confluence with Health Lateral FA | *889 | +886
Heath Lateral FA | Approximately 60 feet upstream of confluence with Health Lateral F | *882 | +878 | City of Heath.
| Approximately 2,380 feet upstream of confluence with Heath Lateral F | *896 | +895
Hebron Tributary | Approximately 900 feet downstream of State Route 79 | *878 | +877 | Licking County (Uninc. Areas), Village of Hebron.
| Just downstream of Cumberland Street | *887 | +888
Kiber Run | Approximately 5,100 feet downsteam of Mink Street | *1,048 | +1,047 | Licking County (Uninc. Areas), Village of Johnstown.
| Approximately 3,500 feet upstream of Mink Street | *1,078 | +1,073
Muddy Fork | Approximately 1,450 feet downstream of State Route 310 | *982 | +980 | Licking County (Uninc. Areas), City of Pataskala.
| Approximately 1,800 feet upstream of Columbia Road | *1,028 | +1,024
Raccoon Creek | Approximately 1,600 Feet downstream of CSX Railroad | *817 | +818 | Licking County (Uninc. Areas), City of Newark, Village of Johnstown, Village of Alexandria, Village of Granville
| Approximately 1,100 feet upstream of State Route 37 | *1,079 | +1,080
Ramp Creek | Approximately 850 feet downstream of Liberty Drive | *850 | +849 | Licking County (Uninc. Areas), City of Heath.
| Approximately 100 feet downstream of Thornwood Drive | *885 | +884
Sharon Valley Run | Approximately at Country Club Road | *877 | +876 | Licking County (Uninc. Areas), City of Newark.
| Approximately 300 feet downstream of Jones Road | *947 | +940
South Fork Licking River | Downstream side of State Route 13 | *815 | +816 | Licking County (Uninc. Areas), City of Heath, City of Hebron, City of Newark, City of Pataskala.
| Approximately 2,600 feet upstream of Mink Street Road | *1,096 | +1,095
*National Geodetic Vertical Datum 1929
+North American Vertical Datum 1988
ADDRESSES:
Licking County (Unincorporated Areas):
Maps available for inspection at Licking County Administration Office, 20 South Second Street, Newark, Ohio 43055.
Send comments to Mr. Jim Mickey, 20 South Second Street, Newark, Ohio 43055.
Village of Alexandria:
Maps available for inspection at Village of Alexandria, 116 Granville Street, Alexandria, Ohio 43001.
Send comments to Honorable Jim Jasper, Mayor, 116 Granville Street, Alexandria, Ohio 43001.
Village of Buckeye Lake:
Maps availabe for inspection at Buckeye Lake Village Office, 5192 Walnut Road, Buckeye Lake, Ohio 43008.
Send comments to Honorable Frank Foster, Mayor, 5192 Walnut Road, Buckeye Lake, Ohio 43008.
Village of Granville:
Maps available for inspection at Jerry Turner/Bird and Bull Engineers & Surveyors, 2875 Dublin Granville Road, Columbus, Ohio 43235.
Send comments to Mr. Chris Strayer, Village Planner, 141 East Broadway, Granville, Ohio 43023.
Village of Hanover:
Maps available for inspection at Hanover Village Hall, 200 New Home Drive NE, Hanover, Ohio 43055.
Send comments to Honorable Duane Flowers, Mayor, 200 New Home Drive NE, Hanover, Ohio 43055.
Village of Hartford:
Maps available for inspection at Hartford Village Town Hall, 2 North High Street, Croton, Ohio 43013.
Send comments to Mr. Gordon Potter, 2 North High Street, Croton, Ohio 43013.
City of Heath:
Maps available for inspection at Heath Municipal Building, 1287 Hebron Road, Heath, Ohio 43056.
Send comments to Mr. John Groff, Chief of Building/Zoning, 1287 Hebron Road, Heath, Ohio 43056.
Village of Hebron:
Maps available for inspection at Village of Hebron Zoning Department, Attention: Theresa Ours, 116 W. Main Street, Hebron, Ohio 43025.
Send comments to Mr. Jerry Turner, Engineer, 2875 W. Dublin Granville Road, Columbus, Ohio 43235.
Village of Johnstown:
Maps available for inspection at Village of Johnstown, 599 South Main Street, Johnstown, Ohio 43031.
Send comments to Mr. Randy Ashbrook, Street Director, 599 South Main Street, Johnstown, Ohio 43031.
Village of Kirkersville:
Maps available for inspection at Kirkersville Village Hall, 135 N. 5th Street, Kirkersville, Ohio 43033.
Send comments to Mr. Mike Cloud, Zoning, 135 N. 5th Street, Kirkersville, Ohio 43033.
City of Newark:
Maps available for inspection at City of Newark Division of Engineering, 40 West Main Street, Newark, Ohio 43055.
Send comments to Mr. Brian Morehead, City Engineer, 40 West Main Street, Newark, Ohio 43055.
City of Pataskala:
Maps available for inspection at City of Pataskala Administration Office, 196 East Broad Street, Pataskala, Ohio 43062.
Send comments to Mr. Alison Terry, Director of Planning, 196 East Broad Street, Pataskala, Ohio 43062.
City of Reynoldsburg:
Maps available for inspection at City of Reynoldsburg Municipal Building, 7232 East Main Street, Reynoldsburg, Ohio 43068.
Send comments to Mr. Stephen Moore, 7232 East Main Street, Reynoldsburg, Ohio 43068.
Village of St. Louisville:
Maps available for inspection at Village of St. Louisville, 257 South Sugar Street, St. Louisville, Ohio 43071.
Send comments to Mr. Dennis Ankrum, 257 South Sugar Street, St. Louisville, Ohio 43071.
Village of Utica:
Maps available for inspection at Village Administration Office, 39 Spring Street, Utica, Ohio 43080.
Send comments to Mr. Jud Brechler, Village Administrator, 39 Spring Street, Utica, Ohio 43080.
Salt Lake County, Utah and Incorporated Areas
Big Cottonwood Creek: | Approximately 140 feet upstream of confluence with Jordan River | None | + 4,246 | Salt Lake County (Uninc. Areas).
| Approximately 60 feet upstream of Holladay Cottonwood Road | None | + 4,642 |
| Approximately 120 feet upstream of Wasatch Boulevard | None | + 4,896 |
Little Cottonwood Creek: | At confluence with Jordan Road | None | + 4,252 | Salt Lake County (Uninc. Areas).
| Just upstream of 2000 East Street | None | + 4,593 |
| Approximately 600 feet upstream of Route 209 | None | + 5,384 |
Little Willow Creek: | At confluence with Willow Creek | None | + 4,610 | City of Draper.
| Approximately 1500 feet upstream of Hidden Brook Drive | None | + 5,094 | City of Sandy.
Midas Creek: | At 11800 South Street | None | + 4,562 | City of Herriman, City of Riverton, Salt Lake County (Uninc. Areas).
| Approximately 430 feet upstream of 6000 West Street | None | + 4,920 |
+ North American Vertical Datum 1988
ADDRESSES:
Unincorporated Areas of Salt Lake County:
Maps are available for inspection at the Public Works Department, Engineering, 451 South State Street, Suite N. 3100, Salt Lake City, UT 84190.
Send comments to Honorable Peter Corroon, Salt Lake County, 2001 South State Street, Suite N 2100, Salt Lake City, UT 84190.
City of Draper:
Maps are available for inspection at the 12441 South 900 East, Draper, UT 84020.
Send comments to Honorable Darrell H. Smith, Mayor, City of Draper, 12441 South 900 East, Draper, UT 84020.
City of Herriman:
Maps are available for inspection at 13011 South Pioneer Street, Herriman, UT 84065.
Send comments to Honorable J. Lynn Crane, Mayor, City of Herriman, 13011 South Pioneer Street, Herriman, UT 84065.
City of Riverton:
Maps are available for inspection at 12765 South 1400 West, Riverton, UT 84065.
Send comments to Honorable R. Mont Evans, Mayor, City of Riverton, 12765 South 1400 West, Riverton, UT 84065.
City of Sandy City:
Maps are available for inspection at 10000 Centennial Parkway, Sandy, UT 84070.
Send comments to Honorable Tom Dolan, Mayor, City of Sandy City, 10000 Centennial Parkway, Sandy, UT 84070.
Williamson County, Tennessee and Incorporated Areas
Aden Camp Branch | At the confluence of Aden Camp Branch with Little Turnbull Creek | None | +664 | Williamson County (Uninc. Areas).
| Approximately 400 feet upstream of Bethshears Road | None | +873 | City of Fairview.
Aenon Creek | At the confluence of West Fork Aenon Creek | None | +704 | Williamson County (Uninc. Areas).
| Approximately 900 feet upstream of confluence of West Fork Aenon Creek | None | +707
Arkansas Creek | At the confluence of Arkansas Creek with South Harpeth River | None | +663 | Williamson County (Uninc. Areas).
| Approximately 9,460 feet upstream of confluence of Harpendene Branch | None | +700
Arrington Creek | Approximately 4,100 feet upstream of confluence with Harpeth River | *679 | +682 | Williamson County (Uninc. Areas).
| Approximately 410 feet downstream of Sanford Road | None | +796
Arrington Creek Tributary 1 | At confluence Arrington Creek Tributary 1 with Arrington Creek | None | +699 | Williamson County (Uninc. Areas).
| Approximately 1,950 feet upstream of the confluence of Arrington Creek Tributary 2 | None | +748
Arrington Creek Tributary 2 | At confluence of Arrington Creek Tributary 2 with Arrington Creek Tributary 1 | None | +734 | Williamson County (Uninc. Areas).
| Approximately 2,930 feet upstream of the confluence with Arrington Creek Tributary 1 | None | +760
Arrington Creek Tributary 3 | At confluence of Arrington Creek Tributary 3 with Arrington Creek | None | +736 | Williamson County (Uninc. Areas).
| Approximately 1,500 feet upstream of the confluence with Arrington Creek Tributary 5 | None | +758
Arrington Creek Tributary 4 | At confluence of Arrington Creek Tributary 4 with Arrington Creek Tributary 3 | None | +743 | Williamson County (Uninc. Areas).
| Approximately 3,310 feet upstream of the confluence with Arrington Creek | None | +760
Arrington Creek Tributary 5 | At confluence Arrington Creek Tributary 5 with Arrington Creek Tributary 3 | None | +747 | Williamson County (Uninc. Areas).
| Approximately 1,390 feet upstream of the confluence with Arrington Creek Tributary 3 | None | +760
Big Turnbull Creek | Approximately 2,800 feet upstream of Old Cox Pike | None | +644 | Williamson County (Uninc. Areas).
| Approximately 2,240 feet upstream of Old Franklin Road | None | +685
Brush Creek | Approximately 6,680 feet upstream of confluence of Brush Creek Tributary 1 | *676 | +676 | Williamson County (Uninc. Areas).
| Approximately 430 feet upstream of Jones Lane S.E. | None | +820 | City of Fairview.
Brush Creek Tributary 1 | Approximately 40 feet upstream of confluence with Brush Creek | *615 | +616 | Williamson County (Uninc. Areas).
| Approximately 150 feet to the northwest of the intersection of Oak Tree Drive and Dody Drive | None | +824 | City of Fairview.
Burke Branch | At the confluence of Burke Branch with Mayes Creek | None | +700 | Williamson County (Uninc. Areas).
| Approximately 2,240 feet upstream of Wilson Pike | None | +748
Caney Fork Creek | At the confluence of Caney Fork Creek with South Harpeth River | None | +619 | Williamson County (Uninc. Areas).
| Approximately 8,300 feet upstream of confluence with South Harpeth River | None | +656
Dry Branch | Just downstream of Mallory Station Road | *692 | +692 | Williamson County (Uninc. Areas), City of Brentwood, City of Franklin.
| Approximately 80 feet upstream of Moores Lane | None | +771
Fivemile Creek | At the confluence of Fivemile Creek Tributary 1 with Fivemile Creek | *679 | +680 | Williamson County (Uninc. Areas).
| Approximately 450 feet upstream of Pratt Lane | None | +711
Fivemile Creek Tributary 1 | At the confluence at Fivemile Creek Tributary 1 with Fivemile Creek | None | +680 | Williamson County (Uninc. Areas).
| Approximately 2,930 feet upstream of Interstate 65 | None | +746
Flat Creek | Approximately 2,520 feet southeast of the intersection of Flat Creek Road and Reynolds Road | None | +707 | Williamson County (Uninc. Areas).
| Approximately 1,370 feet southeast of intersection of Cross Keys Road and Flat Creek Road | None | +741 |
Flat Rock Creek | Approximately 18,840 feet downstream of Horn Tavern Road | None | +567 | Williamson County (Uninc. Areas).
| Approximately 1,220 feet northwest of the intersection of Cox Pike North and Mary Susan Lane | None | +807 | City of Fairview.
Flat Rock Creek Tributary 1 | At the confluence of Flat Rock Creek Tributary 1 with Flat Rock Creek | None | +718 | City of Fairview.
| Approximately 1,880 feet upstream of Highway 96 | None | +811 |
Goose Creek | Approximately 700 feet upstream of confluence with Fivemile Creek | None | +669 | Williamson County (Uninc. Areas).
| Approximately 260 feet north of the intersection of Goose Creek Bypass and Snowbird Hollow Road | None | +771 |
Grassy Branch | Approximately 2,490 feet upstream of Duplex Road | *711 | +711 | City of Spring Hill.
| Approximately 2,280 feet upstream of the confluence of Grassy Branch Tributary 1 | None | +720 |
Grassy Branch Tributary 1 | At the confluence of Grassy Branch Tributary 1 with Grassy Branch | None | +712 | City of Spring Hill.
| Approximately 480 feet upstream of the confluence with Grassy Branch | None | +717 |
Harpendene Branch | At the confluence of Harpendene Branch with Arkansas Creek | None | +638 | Williamson County (Uninc. Areas).
| Approximately 7,930 feet upstream of confluence with Arkansas Creek | None | +695 |
Harpeth River Tributary 1 | Approximately 3,210 feet upstream of confluence with Harpeth River | +677 | +678 | Williamson County (Uninc. Areas).
| Approximately 310 feet upstream of Murfreesboro Road | None | +709 |
Harrison Branch Creek | Approximately 11,600 feet upstream of confluence | None | +668 | Williamson County (Uninc. Areas).
| Approximately 1,070 feet northwest of the intersection of Henderson Drive and Fairview Boulevard | None | +767 | City of Fairview.
Hickman Branch | At the confluence of Hickman Branch with Little Turnbull Creek | None | +697 | Williamson County (Uninc. Areas).
| Approximately 80 feet northwest of the intersection of Master Shane Road & Cox Run Court | None | +831 | City of Fairview.
Kelley Creek | At the confluence of Kelley Creek with South Harpeth Creek | None | +646 | Williamson County (Uninc. Areas).
| Approximately 220 feet upstream of Taylor Cemetery Road | None | +688 |
Liberty Creek | Just downstream of Eddy Lane | *645 | +645 | City of Franklin.
| Approximately 85 feet downstream of Hillhaven Lane | None | +700 |
Lick Creek | Approximately 560 feet downstream of Porter Branch Road | None | +646 | Williamson County (Uninc. Areas).
| At the confluence of South Fork Lick Creek and North Fork Lick Creek | None | +668 |
Linton Branch | Approximately 14,000 feet southwest of the intersection of Ntchez Bend Road and Pasquo Road | None | +623 | Williamson County (Uninc. Areas).
| Approximately 9,400 feet southwest of the intersection of Natchez Bend Road and Pasquo Road | None | +645 |
Little Harpeth River | Approximately 410 feet downstream of Moores Lane | *708 | +708 | City of Brentwood.
| Approximately 2,250 feet upstream of Carriage Hills Drive | None | +741 |
Little Harpeth River Tributary 1 | Approximately 840 feet upstream of confluence with Little Harpeth River | *629 | +629 | City of Brentwood.
| Approximately 1,355 feet upstream of River Oaks Road | None | +654 |
Little Harpeth River Tributary 2 | Approximately 240 feet upstream of Country Club Drive | *645 | +645 | City of Brentwood.
| Approximately 30 feet downstream of Maryland Way | None | +710 |
Little Harpeth River Tributary 3 | At the confluence of Little Harpeth River | None | +664 | City of Brentwood.
| Approximately 35 feet downstream of Centerview Drive | None | +690 |
Little Harpeth River Tributary 4 | Approximately 1,590 feet upstream of confluence with Little Harpeth River | *656 | +656 | City of Brentwood.
| Approximately 480 feet upstream of Shenandoah Drive | None | +692 |
Little Harpeth River Tributary 5 | At the confluence of Little Harpeth River Tributary 5 with Little Harpeth River Tributary 4 | None | +660 | City of Brentwood.
| Approximately 85 feet downstream of Mayfield Place | None | +708 |
Little Harpeth River Tributary 6 | At the confluence of Little Harpeth River Tributary 6 with Little Harpeth River Tributary 4 | None | +692 | City of Brentwood.
| Approximately 1,455 feet upstream of Old Smyrna Road | None | +726 |
Little Harpeth River Tributary 7 | At the confluence of Little Harpeth River Tributary 7 and Little Harpeth River Tributary 8 | None | +676 | City of Brentwood.
| Approximately 1,605 feet upstream of Wikle Road | None | +744 |
Little Harpeth River Tributary 8 | At the confluence of Little Harpeth River Tributary 7 and Little Harpeth River Tributary 8 | None | +676 | City of Brentwood.
| Approximately 2,745 feet upstream of General Macarthur Drive | None | +722 |
Little Harpeth River Tributary 9 | At the confluence of Little Harpeth River Tributary 9 and Little Harpeth River Tributary 7 | None | +707 | City of Brentwood.
| Approximately 850 feet upstream of Ashby Drive | None | +890 |
Little Harpeth River Tributary 10 | At the confluence of Little Harpeth River Tributary 10 and Little Harpeth River Tributary 7 | None | +679 | City of Brentwood.
| Approximately 220 feet downstream of Vaden Drive | None | +744 |
Little Harpeth River Tributary 11 | At the confluence of Little Harpeth River Tributary 11 and Little Harpeth River Tributary 10 | None | +701 | City of Brentwood.
| Approximately 4,520 feet upstream of Interstate 65 | None | +754 |
Little Turnbull Creek | Approximately 1,720 feet downstream of Crow Cut Road | None | +599 | Williamson County (Uninc. Areas).
| Approximately 4,320 feet upstream of confluence of Little Turnbull Creek Tributary 1 | None | +822 | City of Fairview.
Little Turnbull Creek Tributary 1 | At the confluence of Little Turnbull Creek Tributary 1 with Little Turnbull Creek | None | +756 | City of Fairview.
| Approximately 2,360 feet upstream of confluence with Little Turnbull Creek | None | +819 |
Mayes Creek | Just downstream of North Chapel Road | *664 | +664 | Williamson County (Uninc. Areas).
| Approximately 5,400 feet upstream of Tulloss Road | None | +753 |
McCanless Branch | At the confluence of McCanless Branch with Arrington Creek | None | +734 | Williamson County (Uninc. Areas).
| Approximately 3,480 feet upstream of Old Horton Highway | None | +757 |
McCrory Creek | Just downstream of McDaniel Road | *682 | +682 | Williamson County (Uninc. Areas).
| Approximately 300 feet upstream of Arno-College Grove Road | None | +733 |
McCutcheon Creek | Approximately 740 feet downstream of Amacher Drive | *743 | +743 | City of Spring Hill.
| Approximately 1,240 feet upstream of Amacher Drive | None | +760 |
Mill Creek | Approximately 400 feet upstream of Rocky Fork Road | *612 | +612 | Williamson County (Uninc. Areas).
| Approximately 11,080 feet upstream of Rocky Fork Road | None | +661 | Town of Nolensville.
North Fork Lick Branch | At the confluence of North Fork Lick Branch with Lick Creek | None | +668 | Williamson County (Uninc. Areas).
| Approximately 5,040 feet upstream of Old Lick Creek Road | None | +688 |
Overall Creek | Approximately 1,320 feet upstream of confluence with Harpeth River | None | +709 | Williamson County (Uninc. Areas).
| Approximately 720 feet upstream of Horton Highway | None | +769 |
South Fork Lick Branch | At the confluence of South Fork Lick Branch with Lick Creek | None | +668 | Williamson County (Uninc. Areas).
| Approximately 210 feet upstream of South Lick Creek Road | None | +677 |
South Harpeth Creek | At the confluence of South Harpeth Creek with South Harpeth River | None | +633 | Williamson County (Uninc. Areas).
| At the confluence of Kelley Creek | None | +646 |
South Harpeth River | Approximately 590 feet upstream of confluence of Caney Fork Creek | *619 | +619 | Williamson County (Uninc. Areas).
| At the confluence of South Harpeth Creek | None | +633 |
Starnes Creek | Just downstream of Arno Road | *675 | +675 | Williamson County (Uninc. Areas).
| Approximately 920 feet upstream of State Route 840 | None | +755 |
Unnamed Tributary 2 to Harpeth River | Approximately 1,200 feet upstream of Eddy Lane | *640 | +640 | City of Franklin.
| Approximately 580 feet upstream of Jordan Road | None | +680 |
Unnamed Tributary to Mill Creek | Approximately 1,270 feet upstream of confluence with Mill Creek | *603 | +603 | Williamson County (Uninc. Areas).
| Approximately 2,140 feet upstream of Clovercroft Road | None | +667 | Town of Nolensville.
West Fork Aenon Creek | At the confluence of West Fork Aenon Creek with Aenon Creek | None | +704 | Williamson County (Uninc. Areas).
| Approximately 5,840 feet upstream of the confluence with Aenon Creek | None | +721 |
*National Geodetic Vertical Datum 1929
+North American Vertical Datum 1988
ADDRESSES:
Unincorporated Areas of Williamson County:
Maps are available for inspection at the Williamson County Complex, Planning Department, 1320 West Main Street, Suite 125, Franklin, TN 37064.
Send comments to the Honorable Roger Anderson, Mayor, Williamson County, 1320 West Main Street, Suite 125, Franklin, TN 37064.
City of Brentwood:
Maps are available for inspection at Brentwood City Hall, 5211 Maryland Way, Brentwood, TN 37027.
Send comments to the Honorable Ann Dunn, Mayor, City of Brentwood, P.O. Box 788, Brentwood, TN 37024.
City of Fairview:
Maps are available for inspection at Fairview City Hall, 1874 Fairview Boulevard, Fairview, TN 37062.
Send comments to the Honorable Stewart Johnson, Mayor, City of Fairview, P.O. Box 69, Fairview, TN 37062.
City of Franklin:
Maps are available for inspection at Franklin City Hall, 109 Third Avenue South, Franklin, TN 37064.
Send comments to the Honorable Thomas Miller, Mayor, City of Franklin, 109 Third Avenue South, Franklin, TN 37064.
Town of Nolensville:
Maps are available for inspection at Nolensville Town Hall, 7240 Nolensville Road, Suite 102, Nolensville, TN 37135.
Send comments to the Honorable Charles F. Knapper, Mayor, Town of Nolensville, P.O. Box 547, Nolensville, TN 37135.
City of Spring Hill:
Maps are available for inspection at Spring Hill City Hall, 199 Town Center Parkway, Spring Hill, TN 37174.
Send comments to the Honorable Danny Leverette, Mayor, City of Spring Hill, P.O. Box 789, Spring Hill, TN 37174.

(Catalog of Federal Domestic Assistance No. 83.100, “Flood Insurance.”)
Dated: December 5, 2005.
David I. Maurstad,
Acting Director, Mitigation Division, Federal Emergency Management Agency, Department of Homeland Security.

[FR Doc. 05-23949 Filed 12-12-05; 8:45 am]

BILLING CODE 9110-12-P